Proclamation 9530 of October 27, 2016

National Adoption Month, 2016

By the President of the United States of America

A Proclamation

Across America, adoptive parents welcome children into stable, loving families, providing a safe and comforting place for children in need to call home. Families who choose the life-changing path of adoption make a meaningful and lasting difference in the lives of some of the most vulnerable young people in our society. Regardless of sexual orientation, gender identity, race, or religion, devoted Americans who adopt help give more children the upbringing they deserve. Each November, we recognize the important role that adoption has played in the lives of children and families in our country and around the world, and we rededicate ourselves to ensuring every child can find their forever family.

Last year, more than 100,000 children were waiting to be adopted from foster care, and every year, too many older youth age out of the foster care system before they are able to find permanence. Without this support during the critical years of early adulthood, these youth are more likely than their peers to experience homelessness, unemployment, or incarceration. To make the possibility of adoption real for more children across our country, my Administration has eliminated barriers to adoption by extending tax credits and providing financial incentives to child welfare agencies in almost every State to maximize adoptions. I have also worked to strengthen Federal workplace flexibility policies to ensure more families, including adoptive families, can keep their jobs and care for their children as their family grows.

On the Saturday before Thanksgiving, we also recognize National Adoption Day, kicking off a week of reflection and gratitude for many adoptive families. Each year on this day, thousands of adoptions are finalized, including more than 4,000 children in 2015. This year, cities from coast to coast will host a variety of events to commemorate the occasion.

One of the most important jobs many of us will ever have is being a parent. Throughout National Adoption Month, we celebrate all those who have invited a child in need into their hearts and into their homes, and we express our profound appreciation for all who help make adoptions possible. Let us continue strengthening the adoption process so that all children can learn, grow, and thrive with the support of a devoted and permanent family.

NOW, THEREFORE, I, BARACK OBAMA, President of the United States of America, by virtue of the authority vested in me by the Constitution and the laws of the United States, do hereby proclaim November 2016 as National Adoption Month. I encourage all Americans to observe this month by answering the call to find a permanent and caring family for every child in need and by supporting the families who care for them.

IN WITNESS WHEREOF, I have hereunto set my hand this twenty-seventh day of October, in the year of our Lord two thousand sixteen, and of the Independence of the United States of America the two hundred and forty-first.

[FR Doc. 2016-26526

Filed 10-31-16; 11:15 am]

Billing code 3295-F7-P